DEPARTMENT OF TRANSPORTATION

Federal Railroad Administration

[Docket Number FRA-2025-0260]

Notice of Petition for Special Approval of Alternative Standard

AGENCY: Federal Railroad Administration (FRA), Department of Transportation (DOT).

ACTION: Notice.

SUMMARY: This document provides the public notice that the American Public Transportation Association (APTA) petitioned FRA for relief from certain regulations concerning brake equipment maintenance requirements of multiple unit (MU) locomotives.

DATES: FRA must receive comments on the petition by September 29, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Harry Weisinger, Railroad Safety Specialist, FRA Motive Power & Equipment Division, telephone: 202-493-0036, email: harold.weisinger@dot.gov.

SUPPLEMENTARY INFORMATION: Under part 211 of title 49 Code of Federal Regulations (CFR), this document provides the public notice that by letter dated June 16, 2025, APTA petitioned FRA for a special approval of an alternative standard to certain provisions of the Federal railroad safety regulations contained at 49 CFR part 238 (Passenger Equipment Safety Standards). FRA assigned the petition Docket No. FRA-2025-0260.

Specifically, APTA requests approval of an alternative standard to § 238.309(b)(4), Periodic brake equipment maintenance, for electro-pneumatic type brake systems on Stadler GTW and FLIRT MUs. The regulation states that brake systems on MUs have maintenance intervals of 736 days (about 2 years) for cleaning, repairing, and testing brake components. APTA petitions to increase the maintenance interval to at least 1,840 days (about 5 years).¹ In support of its petition, APTA states that the MUs are 100 percent equipped with air dryers.

¹ FRA may consider APTA's petition as a request to conduct an age exploration program that may demonstrate a potential cleaning, repairing, and testing interval beyond the 1,840-day minimum maintenance interval requested in the petition, as warranted.

With this petition, APTA intends to begin an age exploration program, in which a test committee (including the original equipment manufacturer and FRA representatives), would test the brake components of GTW and FLIRT MUs. Testing of 2 vehicles per type would be conducted every half year up to 5 years of service,² as a representational percentage of the 21 GTW and 20 FLIRT cars that are in revenue service on six railroads.

² See previous note regarding the potential consideration of a program with a duration beyond 5 years.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by September 29, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-16505 Filed 8-27-25; 8:45 am]

BILLING CODE 4910-06-P